DEPARTMENT OF HEALTH AND HUMAN SERVICES

Centers for Disease Control and Prevention

[30DAY-71-03]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Evaluation of the Process Required to Effectively Expand the National Laboratory System (NLS) to All States—New—Public Health Practice Program Office (PHPPO), Centers for Disease Control and Prevention (CDC).

In October 2000, the Centers for Disease Control and Prevention (CDC) and the Association of Public Health Laboratories (APHL) collaborated to support demonstration projects designed to test the feasibility of strengthening the relationship between private clinical and public health laboratories to more rapidly identify and respond to emerging problems of public health importance. The National Laboratory System (NLS) concept was proposed because of concerns about the potential impact that a lack of integration among clinical and public health laboratories could have on the ability of the public health system to identify and carry out a timely response to foodborne illnesses, bioterrorism incidents or other emerging diseases.

NLS demonstration projects are funded in four states—Washington, Michigan, Minnesota and Nebraska.

The NLS concept would promote communication and collaboration between clinical laboratories and state public health laboratories within their states. CDC is now proposing to collect data from all state public health laboratory directors and from a sample of clinical laboratories in each state to determine the interest within states in implementing the NLS concept. Results of the data collection will be stratified by state and used to assist each state's public health laboratory in improving communication and collaboration with the clinical laboratories in their state. As more states implement the systems, the ability to respond to national emergencies through individual state systems, would be improved.

The goals of the data collection are:

• To determine the barriers that must be overcome to expand the NLS concept in other states.

• To determine the readiness of states to develop relationships with clinical laboratories.

• To determine the most effective communication links for sharing information among state public health laboratories and clinical laboratories within the state.

• To understand what topics of public health significance could be addressed in each state if communication and coordination between the clinical and state public health laboratories were improved.

• To determine the most successful approach state laboratories should use based on the organizational structure and climate of the state health department. The estimated annual burden is 325 hours.

Respondents | No. of respondents | No. of responses per respondent | Avg. burden per response (in hrs.)
Survey of State Public Health Directors in States Without NLS | 50 | 1 | 30/60
Survey of Clinical Laboratory Directors in All States | 600 | 1 | 30/60

Dated: November 13, 2003.
Laura Yerdon Martin,
Acting Director, Office of the Executive Secretariat, Centers for Disease Control and Prevention.

[FR Doc. 03-28865 Filed 11-18-03; 8:45 am]

BILLING CODE 4163-18-P